ENVIRONMENTAL PROTECTION AGENCY

[ER-FRL-8998-8]

Environmental Impact Statements; Notice of Availability

Responsible Agency: Office of Federal Activities, General Information (202) 564-1399 or http://www.epa.gov/compliance/nepa/.

Weekly Receipt of Environmental Impact Statements

Filed 08/22/2011 Through 08/26/2011

Pursuant to 40 CFR 1506.9.

Notice

Section 309(a) of the Clean Air Act requires that EPA make public its comments on EISs issued by other Federal agencies. EPA's comment letters on EISs are available at: http://www.epa.gov/compliance/nepa/eisdata.html.

EIS No. 20110281, Draft EIS, NPS, IA, Effigy Mounds National Monument, General Management Plan, Implementation, Clayton and Allamakee Counties, IA, Comment Period Ends: 10/24/2011, Contact: Nich Chevance 402-661-1844.

EIS No. 20110282, Final EIS, NRCS, UT, Logan Northern Canal Reconstruction Project, To Construct a System that will Safely Restore Delivery of Water, City of Logan, Cache County, UT, Review Period Ends: 10/03/2011, Contact: Bronson Smart 801-524-4559.

EIS No. 20110284, Final EIS, USFS, OR, Deschutes and Ochoco National Forest and the Crooked River National Grassland Travel Management Project, Implementation, Deschutes, Jefferson, Crook, Klamath, Lake, Grant and Wheeler County, OR, Review Period Ends: 10/03/2011, Contact: Mollie Chaudet 541-383-5300.

EIS No. 20110285, Final EIS, USACE, CA, San Clemente Shoreline Protection Project, To Provide Shore Protection through Nourishment of the Beach at the San Clemente Pier, San Clemente, CA, Review Period Ends: 10/03/2011, Contact: Thomas W. Keeney 213-452-3875.

EIS No. 20110286, Final EIS, BPA, WA, Whistling Ridge Energy Project, Construction and Operation of a 75-megawatt (MW) Wind Turbine Facility, City of White Salmon, Skamania County, WA, Review Period Ends: 10/03/2011, Contact: Andrew M. Montano 503-230-4145.

EIS No. 20110287, Draft EIS, NRC, WA, Generic—License Renewal of Nuclear Plants, Supplement -47 Regarding Columbia Generating Station (NUREG—1437), Issuance of a Renewed Operating License, Benton County, WA, Comment Period Ends: 11/16/2011, Contact: Daniel Doyle 301-415-3748.

EIS No. 20110288, Final EIS, USFS, UT, Oil and Gas Leasing on Lands Administered by the Dixie National Forest, Implementation, Garfield, Iron, Kane, Piute, and Washington Counties, UT, Review Period Ends: 10/03/2011, Contact: Robert MacWhorter 435-865-3700.

EIS No. 20110289, Final Supplement, USACE, FL, Martin County Hurricane and Storm Damage Reduction Project, Section 404 Permit, Hutchinson Island, Martin County, FL, Review Period Ends: 10/03/2011, Contact: Paul DeMarco 904-232-1897.

EIS No. 20110290, Final EIS, DOS, 00, Keystone XL Oil Pipeline Project, Additional Information, Presidential Permit for the Proposed Construction, Connection, Operation, and Maintenance of a Pipeline and Associated Facilities at the United States Border for Importation of Crude Oil from Canada, Review Period Ends: 10/03/2011, Contact: Alexander Yuan 202-647-4284.

EIS No. 20110291, Final Supplement, NNSA, NM, Nuclear Facility of the Chemistry and Metallurgy Research Replacement Project, To Address New Geologic Information Regarding Seismic Conditions at the Site, Los Alamos National Laboratory, Los Alamos, NM, Review Period Ends: 10/03/2011, Contact: John Tegtmeier 505-665-0113.

Dated: August 30, 2011.
Cliff Rader,
Acting Director, NEPA Compliance Division, Office of Federal Activities.

[FR Doc. 2011-22602 Filed 9-1-11; 8:45 am]

BILLING CODE 6560-50-P